DEPARTMENT OF COMMERCE

National Oceanic and Atmospheric Administration

RIN 0648-XZ49

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council (GMFMC) will convene public meetings.

DATES: The meetings will be held October 25-29, 2010.

ADDRESSES: The meetings will be held at the Embassy Suites Hotel, 4914 Constitution Ave., Baton Rouge, LA 70808.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Thursday, October 28, 2010

The Council meeting will begin at 1:30 p.m.

1:30-1:45 p.m.—The council will review the agenda and approve of the minutes.

1:45 p.m.-2 p.m.—The Council will receive a presentation titled “Fisheries 101”.

2 p.m.-2:30 p.m.—The Council will receive a U.S. Navy Environmental Impact Statement Presentation.

2:30 p.m.-5:30 p.m.—The Council will receive public testimony on exempted fishing permits (EFPs), if any; a Final Regulatory Amendment for Red Snapper TAC in 2011 and 2012; a Final Framework Action for Greater Amberjack; and hold an open public comment period. People wishing to speak before the Council should complete a public comment card prior to the comment period.

Friday, October 29, 2010

8:30 a.m.-4:45 p.m.—The Council will review and discuss reports from the committee meetings as follows: Reef Fish; Administrative Policy; Shrimp Management; Data Collection; SEDAR Selection; Sustainable Fisheries/Ecosystem; Habitat; Budget/Personnel; Spiny Lobster/Stone Crab; Mackerel Management and Law Enforcement.

4:45 p.m.-5 p.m.—Other Business items will follow.

The Council will conclude its meeting at approximately 5 p.m.

Committees

Monday, October 25, 2010

1 p.m.-2 p.m.—Closed Session—Full Council—The Budget/Personnel Committee and full Council will discuss personnel issues.

2 p.m.-2:15 p.m.—Closed Session—Full Council—The SEDAR Selection Committee and full Council will appoint participants to the SEDAR 22 Yellowedge/Tilefish Review workshop and receive a report of the Steering Committee meeting.

2:15 p.m.-2:30 p.m.—The SEDAR Selection Committee and full Council will receive a report of the Steering Committee meeting.

2:30 p.m.-5:30 p.m.—The Sustainable Fisheries/Ecosystem Committee will discuss the options paper for the Generic Annual Catch Limit/Accountability Measures Amendment; crew size limit on For-Hire Vessels when fishing commercially; discuss Reef Fish Permit Earned Income Requirement, and receive a report on Deepwater Horizon Input on Subsea Sampling Plan.

-Recess-

Tuesday, October 26, 2010

8:30 a.m.-10 a.m.—The Administrative Policy Committee will discuss revisions to the Administrative Handbook.

10 a.m.-11 a.m.—The Shrimp Management Committee review the “Status and Health of the Shrimp Stocks for 2009”; review the “Stock Assessment Report for 2009—Gulf of Mexico Shrimp Fishery”; review “A Biological Review of the Tortugas Pink Shrimp Fishery through December 2009”; receive a final report of shrimp effort in 2009 and a preliminary report on shrimp effort in 2010; and discuss Latent Permits.

11 a.m.-12:30 p.m.—The Data Collection Committee will discuss a fish tag system for recreational grouper and receive a report on Summary of SEAMAP/Deepwater Horizon Fishery Independent Data Collection Workshop; receive a summary of the National SSC Workshop.

2 p.m.-5 p.m.—The Reef Fish Management Committee will discuss Final Framework Action for Greater Amberjack; discuss Final Regulatory Amendment for Red Snapper TAC in 2011 and 2012; discuss IFQ share transfers between sectors; discuss the pros and cons of regionalized management; discuss the Pros and Cons of Management Based on Numbers vs. Pounds of Fish; and discuss the IFQ Finance Program.

-Recess-

Wednesday, October 27, 2010

8:30 a.m.-11:30 a.m.—The Reef Fish Management Committee will continue to meet.

1 p.m.-2 p.m.—The Budget/Personnel Committee will receive a year-to-date 2010 budget review.

2 p.m.-3 p.m.—The Spiny Lobster Management Committee will review draft Amendment 10 to the Spiny Lobster FMP and an analysis to repeal the Stone Crab FMP.

3 p.m.-3:30 p.m.—The Habitat Protection Committee will receive a final report on Essential Fish Habitat update.

3:30 p.m.-4 p.m.—The Mackerel Management Committee will discuss the scoping document for King Mackerel Latent Permits; receive a report on Amendment 18, and potentially select public hearing locations.

-Recess-

Immediately Following Committee Recess—There will be an informal open public question and answer session on Gulf of Mexico Fishery Management issues.

Thursday, October 28, 2010

8:30 a.m.-12 pm—The Joint Law Enforcement Committee/GMFMC Law Enforcement Advisory Panel/GSMFC Law Enforcement Committee will meet to discuss state and federal law enforcement activities, review future plans and potentially provide advice on the enforceability of measures currently being considered by the council.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Tina O'Hern at the Council (see ADDRESSES) at least 5 working days prior to the meeting.

Dated: October 4, 2010.
Tracey L. Thompson,
Acting Director, Office of Sustainable Fisheries, National Marine Fisheries Service.

[FR Doc. 2010-25279 Filed 10-6-10; 8:45 am]

BILLING CODE P